FEDERAL COMMUNICATIONS COMMISSION

En Banc Hearing on Steps Toward Recovery in the Telecommunications Industry

AGENCY: Federal Communications Commission.

ACTION: Notice of meeting.

SUMMARY: The hearing will bring together experts from the financial community and academic economists at an en banc hearing to conduct a comprehensive assessment of the current state of the telecommunications sector and to discuss steps needed to restore its financial health.

DATES: The meeting will be held on Monday, October 7, 2002, from 2 p.m. to 4 p.m.

ADDRESSES: The meeting will be held in the Commission Meeting Room, Federal Communications Commission, 445 12th St. SW, Washington, DC 20554.

FOR FURTHER INFORMATION CONTACT: Robert Pepper at (202) 418-2030 voice and e-mail rpepper@fcc.gov.

Robert Pepper,
Chief, Office of Plans and Policy, Federal Communications Commission.

[FR Doc. 02-25220 Filed 10-3-02; 8:45 am]

BILLING CODE 6712-01-P